ENVIRONMENTAL PROTECTION AGENCY

[EPA-HQ-OAR-2017-0430; FRL-10784-01-OAR]

Notice of Proposed Radon Credentialing Criteria

AGENCY: Environmental Protection Agency, Office of Radiation and Indoor Air.

ACTION: Notice of availability; opening of a 60-day public comment period.

SUMMARY: The Environmental Protection Agency (EPA) seeks input on criteria to help align and ensure consistency across radon service provider credentialing programs operated by certification bodies and states. The criteria reflect stakeholder feedback received in response to a 2017 Federal Register Notice on the same subject and consideration of conformity assessment practices in place across the federal government. The EPA is soliciting comment on these criteria. The comments will inform development of the final version of the criteria.

DATES: Comments may be submitted on or before May 22, 2023.

ADDRESSES: You may send comments, identified by Docket ID No. EPA-HQ-OAR-2017-0430 by any of the following methods:

• Federal eRulemaking Portal: https://www.regulations.gov (our preferred method). Follow the online instructions for submitting comments.

• Email: a-and-r-Docket@epa.gov. Include Docket ID No. EPA-HQ-OAR-2017-0430 in the subject line of the message.

• U.S. Postal Service Mail: U.S. Environmental Protection Agency, EPA Docket Center, Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. EPA-HQ-OAR-2017-0430. Comments received may be posted without change to https://www.regulations.gov/, including any personal information provided. For detailed instructions on sending comments, see the SUPPLEMENTARY INFORMATION section of this document.

FOR FURTHER INFORMATION CONTACT: Katrin Kral, Indoor Environments Division, Office of Radiation and Indoor Air 6609T, Environmental Protection Agency, 1200 Pennsylvania Avenue NW, Washington, DC 20460; 202-343-9454; kral.katrin@epa.gov.

SUPPLEMENTARY INFORMATION: Submit your comments, identified by Docket ID No. EPA-HQ-OAR-2017-0430, at https://www.regulations.gov (our preferred method), or the other methods identified in the ADDRESSES section. The KEY QUESTIONS section includes specific areas on which the EPA is seeking comment.

Once submitted, comments cannot be edited or removed from the docket. The EPA may publish any comment received to its public docket. Do not submit electronically any information you consider to be Confidential Business Information (CBI) or other information whose disclosure is restricted by statute. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Tips for Preparing Your Comments. When submitting comments, remember to:

• Identify the notice by docket number, subject heading, Federal Register date, and page number.

• Provide a brief description of yourself and your role or organization before addressing the questions.

• Identify the question(s) you are responding to from the KEY QUESTIONS section by question number when submitting your comments. You do not need to address every question.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

Public Information Session. The EPA will also host a public information session during the comment period. Additional details about timing and the registration process for the information session webinar will be shared on the EPA's radon website at https://www.epa.gov/radon/epas-draft-criteria-radon-credentialing-organizations. The information session will cover the EPA's role in overseeing the quality of radon service providers as well as conformity assessment and application of voluntary consensus standards within federal programs, including the proposed criteria. Participants will have an opportunity to ask clarifying questions via the webinar chat function. The EPA will not accept comments on the criteria during the information session.

I. Background

Radon is the second leading cause of lung cancer in the United States and responsible for an estimated 21,000 deaths each year. One in 15 U.S. homes is estimated to have elevated radon levels. Radon-induced lung cancer is highly preventable and may be addressed by testing and mitigating homes when necessary. Professionals who provide radon testing and mitigation services play a key role in public health protection efforts. Because of the substantial risk resulting from exposure to radon, a naturally occurring radioactive gas, it is critical for radon service providers to possess the necessary skills to provide quality services, ensure consumer protection, and protect public health.

Since 1988, the EPA has administered a non-regulatory program under the Indoor Radon Abatement Act of 1988 (IRAA) ¹ to reduce exposure to indoor radon by promoting awareness, testing, installation of radon mitigation systems in existing homes, and the use of radon-resistant new construction techniques in new buildings. The EPA works with state and tribal programs, industry, and the public to reduce human exposure to radon, thereby reducing deaths due to lung cancer. Essential to this mission is access to quality service providers who possess the skills required to measure indoor radon levels and conduct mitigation when necessary. Historically, the EPA has played a key role in establishing a standard of quality for radon service providers, including development and maintenance of a provider credentialing program (or provider proficiency program) and a one-time evaluation of two certification bodies in 2001, the National Radon Proficiency Program (NRPP) and the National Radon Safety Board (NRSB). Since then, the EPA has maintained oversight of radon credentialing systems, provided an associated national radon reference, and supported the development of and access to radon measurement and mitigation standards of practice. Taken together, these activities align with the EPA's authority to operate a proficiency program designed to rate the effectiveness of radon measurement and mitigation service providers and radon measurement devices.

¹ Public Law 100-551, Title III—Indoor Radon Abatement, enacted October 28, 1988 (also known as the Indoor Radon Abatement Act of 1988 or “IRAA”) (15 U.S.C. 2661, et seq.).

An August 2017 Federal Register Notice ² outlined proposed non-regulatory criteria aimed at establishing consistency across radon credentialing programs. These criteria included a third-party process for accrediting radon professional credentialing organizations to an international standard for certification bodies (International Organization for Standardization/International Electrotechnical Commission; ISO/IEC 17024:2012). The Agency requested comment on the proposed approach.

² EPA. “Notice of Intent to Establish Voluntary Criteria for Radon Credentialing Organizations; Notice of Availability; Opening of a 60-Day Public Comment Period.” Federal Register (82 FR 39993, August 23, 2017) (FRL-9966-07-OAR).

The Proposed Radon Credentialing Criteria document ³,which is the subject of this notice and is included in the docket, reflects stakeholder feedback received through the 2017 Federal Register Notice. The criteria outlined in this document remain grounded in third-party accreditation to ISO/IEC 17024:2012,⁴ and are intended to support establishment and maintenance of a base level of organizational and program-specific competencies as well as maintain flexibility for state-run programs. The Proposed Radon Credentialing Criteria document contains four sections: I—Executive Summary; II—Discussion of Stakeholder Input on 2017 Federal Register Notice and EPA Responses; III—Evaluation Framework; IV—Implementation Approach. The EPA is particularly interested in feedback on Sections III and IV.

³ EPA. “Proposed Radon Credentialing Criteria.” U.S. EPA, Washington DC, EPA 402/D-22/001, December 2022. Available in the Docket: EPA-HQ-OAR-2017-0430.

⁴ ISO, IEC. Conformity Assessment—General Requirements for Bodies Operating Certification of Persons. ISO/IEC 17024:2012(E). 2 ed. July 1, 2012.

The Evaluation Framework is grounded in conformity assessment practices designed to promote consistency across credentialing programs operated by certification bodies and states. This is accomplished through specifications for the maintenance of credentialing programs and radon measurement and mitigation service provider job categories, including identification of radon service provider competencies and assessment methods. Service providers who achieve and maintain credentials from certification bodies and/or state-run programs that meet the Evaluation Framework specifications will have demonstrated and be required to maintain comparable knowledge, skills, and abilities to perform radon services.

The Implementation Approach will facilitate identification of qualified radon service providers meeting a standardized set of specifications outlined within the Evaluation Framework. The Implementation Approach outlines the EPA's planned activities to facilitate adoption of the Evaluation Framework specifications:

• Develop and maintain a process by which credentialing organizations (certification bodies and state-run programs) can annually attest that they meet the Evaluation Framework specifications.

• Maintain a public list of credentialing organizations and accreditation bodies that meet the framework (see TSCA § 305(a)).

• Establish conditions for the State and Tribal Indoor Radon Grants (SIRG) program. It is important to note that IRAA does not provide the EPA with authority to require actions on the part of state or tribal governments. Nonetheless, the EPA may set conditions for receiving funding as part of the SIRG Program, which is authorized under IRAA, that are consistent with the purpose of the Act.

Taken together, the Evaluation Framework and Implementation Approach will help standardize program-specific competencies for credentialing radon service providers and facilitate access to and identification of a skilled and qualified workforce demonstrating a consistent set of competencies to perform radon testing and mitigation.

II. Request for Comments

Comments will inform development of a final version of the Radon Credentialing Criteria to help align and ensure consistency across credentialing programs operated by certification bodies and states. Widespread adherence to the Evaluation Framework as reinforced by the Implementation Approach will support standardization of quality among radon service provider credentials and credentialing organizations, help maximize the utility of the SIRG program by providing assistance to states in a manner that will facilitate access to—and identification of—radon service providers credentialed by organizations meeting a consistent set of specifications, and support streamlined approaches to addressing provider credentials within radon testing/mitigation polices. This in turn may lead to increased consumer confidence in, and demand for, radon service providers, as well as expanded markets for radon service providers.

As mentioned previously, the EPA is particularly interested in feedback on Sections III (Evaluation Framework) and IV (Implementation Approach) of the Proposed Radon Credentialing Criteria document, which is available in the docket. The KEY QUESTIONS section contains specific information requests on these two sections (III and IV).

The Agency is seeking comment from stakeholders working to reduce exposure to indoor radon. This includes stakeholders involved with promoting and/or conducting testing and installation of radon mitigation systems, such as:

• Organizations credentialing radon service providers and other building construction and/or maintenance related providers

• Radon service providers

• Organizations who provide third-party accreditation to the ISO/IEC 17024:2012

• Organizations representing state health and environmental programs, green building initiatives, and the radon services industry

• State radon programs

• Federal agencies who own, influence, or control housing

III. Key Questions

These questions pertain to Sections III and IV of the Proposed Radon Credentialing Criteria document. In addition to responding to specific requests for comments below, commenters are welcome to share any overarching feedback.

Key Questions 1-4. These questions address the Evaluation Framework which outlines a set of specifications in three areas (Accreditation, Examination, and Maintenance) that will help promote consistency across credentialing programs operated by certification bodies and states. Service providers who achieve and maintain credentials from certification bodies and/or state-run programs that meet the Evaluation Framework will have demonstrated and be required to maintain comparable knowledge, skills, and abilities to perform radon services.

1. Do you have any general feedback on the Evaluation Framework (Accreditation, Examination and Maintenance)?

2. What features of the Evaluation Framework may positively and/or negatively impact a state's ability to make any necessary modifications within their organizational structures to ensure adherence of the state-run program to the Evaluation Framework specifications?

3. Will creation of certifications and examinations for the measurement and mitigation service provider categories be sufficient for state-run programs seeking to meet the Evaluation Framework?

4. Should independent certification bodies that meet the Evaluation Framework be required to create certifications and examinations for two job categories (measurement and mitigation) and two job sub-types distinguishing roles for an entry-level technician position and a more senior/supervisory specialist position?

Key Questions 5-6. These questions cover the Examination component of the Evaluation Framework which includes specifications and standards that pertain to determining service provider mastery of competencies necessary to perform a specific job. Specifications for state-run programs that embed third-party examinations within their credentialing programs are also included.

5. Is the proposed stakeholder representation on the expert panel adequate? Stakeholders identified to serve on a panel responsible for developing a job task analysis are considered essential to ensure appropriate representation of the entire population of stakeholders that contribute to, and/or participate in, the credentialing of radon service providers. Additional stakeholder groups (e.g., home inspectors, builders) may be included as part of an expert panel at the certification body's discretion.

6. Should radon service providers be required to complete a device performance test as a requirement to receiving a credential for radon measurement service provider job categories?

These performance tests are designed to evaluate a provider's proficiency using an analytical device. This type of performance test would be incorporated into the Evaluation Framework as part of the “Examination” component. Credentialing organizations would be required to verify and validate how the performance test accurately and reliably assesses the task(s) identified in the job task analysis, as well as how it aligns with the applicable American National Standard which specifies minimum performance criteria and testing procedures for instruments and/or systems designed to quantify the concentration of radon-222 gas in air (MS-PC, Performance Specifications for Instrumentation Systems Designed to Measure Radon Gas in Air).

Key Question 7. This question covers the Maintenance component of the Evaluation Framework which includes specifications that help ensure continued adherence by certification bodies to third-party accreditation requirements and consistency across credentialing program requirements. The specifications addressing credentialing program requirements will help assure that radon service providers are equipped with knowledge, skills and competencies necessary to maintain credentials issued by certification bodies and state-run programs. This element also includes a specification for credentialing organizations to verify the use of approved devices and maintenance of a Quality Assurance Plan in accordance with the most current American National Standards.

7. How frequently should providers be required to verify use of approved testing devices (when applicable) and maintenance of a Quality Assurance Plan?

Key Questions 8-15. These questions address the Implementation Approach which outlines the EPA's planned activities to facilitate adoption of the Evaluation Framework and outlines elements for three time periods (while the Evaluation Framework is being finalized, once the Evaluation Framework is finalized and during the 3-year phase-in period, after the 3-year phase-in period):

• Annual Attestation Process: Develop and maintain a process by which credentialing organizations (certification bodies and state-run programs) can annually attest they meet the Evaluation Framework specifications.

• Public List: Maintain a public list of credentialing organizations and accreditation bodies that meet the Evaluation Framework (see TSCA § 305(a)).

• Conditions for the EPA's SIRG Program.

8. Do you have any general feedback on the Implementation Approach?

9. Will a 3-year phase-in period will be sufficient for certification bodies to prepare for and achieve third-party accreditation and meet the Evaluation Framework and for state-run programs to meet the Evaluation Framework?

10. Do you have feedback on the size and impact of the costs associated with third-party accreditation to ISO/IEC 17024:2012?

11. Do you have feedback regarding the proposed annual attestation process?

12. What reporting mechanisms should the EPA consider for state-run programs to provide annual progress updates and attestations once the Evaluation Framework has been met?

13. Do you have feedback regarding the proposal for the EPA to maintain a public list?

14. Should the EPA identify on its website the credentialing organizations that have declared their intent, but do not yet meet, the Evaluation Framework? In this case credentialing organizations that do not meet all the requirements at the end of the 3-year phase-in period would be removed from the website until such time as they can demonstrate their ability to meet all the requirements of the Evaluation Framework.

15. Do you have feedback regarding the proposal to establish conditions for the SIRG program?

Jonathan D. Edwards,
Director, Office of Radiation and Indoor Air.

[FR Doc. 2023-05354 Filed 3-21-23; 8:45 am]

BILLING CODE 6560-50-P